NUCLEAR REGULATORY COMMISSION

[Docket No. 50-302; NRC-2023-0174]

Accelerated Decommissioning Partners Crystal River Unit 3, LLC; Crystal River Unit 3 Nuclear Generating Plant; License Termination Plan

AGENCY: Nuclear Regulatory Commission.

ACTION: Notice of receipt; public meeting, and request for comment.

SUMMARY: On December 12, 2022, as supplemented on June 9, 2023, the U.S. Nuclear Regulatory Commission (NRC) received from Accelerated Decommissioning Partners Crystal River Unit 3, LLC (ADP CR3, licensee) a license amendment request to add a license condition to include the requirements of a License Termination Plan (LTP) for the Crystal River Unit 3 Nuclear Generating Plant (CR3). The LTP provides details about the known radiological information for the site, the planned demolition and decommissioning tasks to be completed, and the final radiological surveys and data that must be obtained for termination of the NRC's license for CR3. The NRC is requesting public comments on CR3's LTP and will hold a public meeting to discuss the LTP.

DATES: Submit comments by March 7, 2024. Comments received after this date will be considered, if it is practical to do so, but the NRC is able to ensure consideration only for comments received on or before this date. The public meeting will be held on Thursday, December 7, 2023, from 5 p.m. until 8 p.m. eastern time (ET), at the Citrus County Chamber of Commerce, located at 915 N Suncoast Blvd., in Crystal River, Florida. The public meeting is also accessible through an online webinar. See Section IV, “Request for Comment and Public Meeting,” of this document for additional information.

ADDRESSES: You may submit comments by any of the following methods; however, the NRC encourages electronic comment submission through the Federal rulemaking website:

• Federal rulemaking website: Go to https://www.regulations.gov and search for Docket ID NRC-2023-0174. Address questions about Docket IDs in Regulations.gov to Stacy Schumann; telephone: 301-415-0624; email: Stacy.Schumann@nrc.gov. For technical questions, contact the individual listed in the “For Further Information Contact” section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Timothy J. Barvitskie, Office of Nuclear Material Safety and Safeguards, U.S. Nuclear Regulatory Commission, Washington, DC 20555-0001, telephone: 301-415-2480; email: Timothy.Barvitskie@nrc.gov.

SUPPLEMENTARY INFORMATION:

I. Obtaining Information and Submitting Comments

A. Obtaining Information

Please refer to Docket ID NRC-2023-0174 when contacting the NRC about the availability of information for this action. You may obtain publicly available information related to this action by any of the following methods:

• Federal Rulemaking Website: Go to https://www.regulations.gov and search for Docket ID NRC-2023-0174.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. ET, Monday through Friday, except Federal holidays.

B. Submitting Comments

The NRC encourages electronic comment submission through the Federal rulemaking website (https://www.regulations.gov). Please include Docket ID NRC-2023-0174 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

Accelerated Decommissioning Partners Crystal River Unit 3, LLC (ADP CR3, licensee) is currently the licensed operator responsible for decommissioning of Crystal River Unit 3 Nuclear Generating Plant (CR3). Prior to ADP CR3, Duke Energy Florida (DEF) held the licensed authority for CR3. The Facility Operating License No. DPR-72, provides, among other things, that the facility is subject to all rules, regulations, and orders of the NRC now or hereafter in effect. The facility is a pressurized water reactor located in Citrus County, Florida.

By letter dated February 20, 2013, pursuant to paragraphs 50.82(a)(1)(i)-(ii) of title 10 of the Code of Federal Regulations (10 CFR), DEF formally notified the NRC that it had determined to permanently cease power operations at CR3 and that it had permanently removed fuel from the reactor vessel. In this letter, DEF explained that CR3 had been safely shutdown since September 26, 2009, and that all fuel had been permanently removed from the CR3 reactor vessel as of May 28, 2011. DEF then placed the fuel in the CR3 spent fuel pool for temporary storage. After removing the fuel in 2011, DEF stated that it had determined it would retire CR3.

DEF submitted its Post-Shutdown Decommissioning Activities Report (PSDAR) on December 2, 2013. The PSDAR described DEF's proposed decommissioning activities and schedule. At that time, DEF decided to place the facility in long-term storage (i.e., the SAFSTOR decommissioning option) as described in the PSDAR. SAFSTOR is a method of decommissioning in which a nuclear facility is placed and maintained in a condition that allows the facility to be safely stored and subsequently decontaminated (deferred decontamination) to levels that permit release for unrestricted use. DEF planned to continue in SAFSTOR until 2067.

By letter dated June 14, 2019, as supplemented by letters dated January 17, 2020, and March 5, 2020, DEF and ADP CR3 requested that the NRC consent to the proposed direct transfer of licensed authority under CR3 Facility Operating License No. DPR-72 from DEF to ADP CR3. By letter dated June 26, 2019, ADP CR3 submitted a revised PSDAR contingent upon the transfer of the CR3 license authority to ADP CR3 pursuant to the terms of the Decommissioning Services Agreement between DEF and ADP CR3. ADP CR3 is a joint venture between NorthStar Group Services and Orano USA. The revised PSDAR changed the decommissioning approach for CR3 from SAFSTOR to the immediate decontamination and dismantlement of the facility (i.e., the DECON decommissioning option). DECON is a method of decommissioning in which structures, systems, and components that contain radioactive contamination are actively removed from the site and safely disposed of at a commercially operated low-level waste disposal facility or decontaminated to a level that permits the site to be released for unrestricted use as soon as possible after removal of the spent fuel from the spent fuel pool.

By Order dated April 1, 2020, the NRC provided its consent to the direct transfer of licensed authority. On October 1, 2020, the licensed authority was transferred from DEF to ADP CR3 pursuant to the terms of the Decommissioning Services Agreement between DEF and ADP CR3. Per the agreement, DEF remains the NRC-licensed owner of the plant, property, and decommissioning trust fund but not the spent fuel. ADP CR3 became the NRC-licensed operator responsible for decommissioning and maintaining the Independent Spent Fuel Storage Installation (ISFSI) under a service agreement with ADP SF1, and ADP SF1 became the owner of the spent nuclear fuel, high-level waste, and Greater-Than-Class C waste stored in the ISFSI.

On December 12, 2022, ADP CR3 submitted its LTP to the NRC as supplemented by letter dated June 9, 2023. Paragraph 50.82(a)(9), “Termination of license,” specifies that an application for license termination must be accompanied or preceded by a LTP, which is subject to NRC review and approval. The LTP addresses site characterization to ensure that the scope of final status surveys (FSS) of the site cover all areas where contamination existed, remains, or has the potential to exist or remain, identification of remaining dismantlement activities, plans for site remediation, a description of the FSS plans to confirm that CR3 will meet the release criteria in 10 CFR part 20, subpart E, “Radiological Criteria for License Termination,” dose-modeling scenarios that ensure compliance with the radiological criteria for license termination, an estimate of the remaining site-specific decommissioning costs and an updated assessment of the environmental effects of decommissioning CR3. Once approved, the LTP would become a supplement to the CR3 Defueled Safety Analysis Report.

According to 10 CFR 50.82(a)(9)(iii), after the licensee submits an LTP the NRC must hold a public meeting near the site. The purpose of the meeting is for the NRC staff to discuss the NRC's review of the LTP and to request public comments on the LTP. In addition, in accordance with 10 CFR 50.82(a)(9)(iii) and 20.1405, upon the receipt of an LTP from a licensee, NRC must publish a notice in the Federal Register and solicit comments from affected parties.

III. Availability of Documents

The documents identified in the following table are available to interested persons through one or more of the following methods, as indicated.

Document description | ADAMs accession number
DEF notification of its intent to permanently cease operations at Crystal River Unit 3, dated February 20, 2013 | ML13056A005.
DEF submittal of PSDAR for Crystal River Unit 3, dated December 2, 2013 | ML13340A009.
DEF submittal of updated PSDAR for Crystal River Unit 3 to reflect the change from SAFSTOR to DECON, dated June 26, 2019 | ML19177A080.
DEF and ADP CR3 proposed direct transfer of CR3 Facility Operating License No. DPR-72 from DEF to ADP CR3 dated June 14, 2019, and supplemented on January 17, 2020, and March 5, 2020 | ML19170A209 (Package). ML20017A216. ML20065K737.
NRC Order providing consent to the direct license direct transfer of CR3 Facility Operating License No. DPR-72 from DEF to ADP CR3, dated April 1, 2020 | ML20069A028 (Package).
ADP CR3 submittal of their LTP to the NRC, dated December 12, 2022 | ML22355A441.
ADP CR3 supplement to the LTP, dated June 9, 2023 | ML23180A051 (Package).

The NRC may post materials related to this document, including public comments, on the Federal rulemaking website at https://www.regulations.gov under Docket ID NRC-2023-0174. In addition, the Federal rulemaking website allows members of the public to receive alerts when changes or additions occur in a docket folder. To subscribe: (1) navigate to the docket folder (NRC-2023-0174); (2) click the “Subscribe” link; and (3) enter an email address and click on the “Subscribe” link.

IV. Request for Comment and Public Meeting

The NRC is requesting public comments on the CR3 LTP. The NRC will conduct a public meeting to discuss the LTP and receive comments on Thursday, December 7, 2023, from 5 p.m. until 8 p.m. ET, at the Citrus County Chamber of Commerce, located at 915 N Suncoast Blvd., in Crystal River, Florida. Please contact Mr. Timothy Barvitskie no later than Tuesday, December 5, 2023, if accommodations or special equipment is needed for you to attend or to provide comments, so that the NRC staff can determine whether the request can be accommodated. For additional information regarding the meeting, see the NRC's Public Meeting Schedule website at https://meetings.nrc.gov/pmns/mtg. The agenda will be posted no later than 10 days prior to the meeting.

Dated: November 2, 2023.
For the Nuclear Regulatory Commission.
Marlayna V. Doell,
Acting Chief, Reactor Decommissioning Branch, Division of Decommissioning, Uranium Recovery, and Waste Programs, Office of Nuclear Material Safety and Safeguards.

[FR Doc. 2023-24620 Filed 11-7-23; 8:45 am]

BILLING CODE 7590-01-P